FEDERAL COMMUNICATIONS COMMISSION

47 CFR Part 73

[DA 06-1005; MB Docket No. 05-125, RM-11176]

Radio Broadcasting Services; Weaverville, Palo Cedro, and Alturas, CA

AGENCY: Federal Communications Commission.

ACTION: Final rule.

SUMMARY: The Audio Division, at the request of George S. Flinn, Jr., licensee of Station KWCA(FM), Channel 266A, Weaverville, California, deletes Channel 266A at Weaverville, California, from the FM Table of Allotments, allots Channel 266C3 at Palo Cedro, California as the community's first local FM service, and modifies the license of Station KWCA(FM) to specify operation on Channel 266C3 at Palo Cedro, California. In order to accommodate that allotment, the Audio Division further deletes vacant Channel 267C at Alturas, California, and allots, in its place, Channel 268C1 at Alturas. Channel 266C3 can be allotted to Palo Cedro, California, in compliance with the Commission's minimum distance separation requirements with a site restriction of 19.6 km (12.2 miles) northwest of Palo Cedro. The coordinates for Channel 266C3 at Palo Cedro, California, are 40-40-04 North Latitude and 122-25-31 West Longitude. Channel 268C1 can be allotted at Alturas, California, with a site restriction of 48.1 km (29.9 miles) west of Alturas. The coordinates for Channel 268C1 at Alturas, California, are 41-25-00 NL and 121-06-32 WL.

DATES: Effective June 26, 2006.

FOR FURTHER INFORMATION CONTACT: Deborah Dupont, Media Bureau, (202) 418-2180.

SUPPLEMENTARY INFORMATION: This is a synopsis of the Commission's Report and Order, MB Docket No. 05-125, adopted May 10, 2006, and released May 12, 2006. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site, http://www.bcpiweb.com. The Commission will send a copy of this Report and Order in a report to be sent to Congress and the Government Accountability Office pursuant to the Congressional Review Act, see U.S.C. 801(a)(1)(A).

List of Subjects in 47 CFR part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under California is amended by removing Channel 267C and adding Channel 268C1 at Alturas, by removing Channel 266A at Weaverville, and by adding Palo Cedro, Channel 266C3.

Federal Communications Commission.
John A. Karousos,
Assistant Chief, Audio Division, Media Bureau.

[FR Doc. E6-8153 Filed 5-30-06; 8:45 am]

BILLING CODE 6712-01-P